FEDERAL TRADE COMMISSION

16 CFR Chapter I

Notice of Revised Regulatory Review Schedule

AGENCY: Federal Trade Commission.

ACTION: Notice of revised regulatory review schedule.

SUMMARY: The Federal Trade Commission (“Commission”) has a program of systematic review of all of its rules and guides. The Commission hereby gives notice that, based on its current ongoing review proceedings, as well as additional rulemaking proceedings required by new legislation, it does not intend to announce review of any additional rules or guides during 2004. The ten-year regulatory review schedule previously published by the Commission, 67 FR 9630 (Mar. 4, 2002), has been modified accordingly.

FOR FURTHER INFORMATION CONTACT: Neil Blickman, Federal Trade Commission, Bureau of Consumer Protection, Division of Enforcement, 600 Pennsylvania Ave., NW., Washington DC 20580, (202) 326-3038.

SUPPLEMENTARY INFORMATION: The Commission has decided not to initiate review of any additional rules or guides during 2004. Currently, the Commission has ongoing review or amendment proceedings that relate to a number of its rules and guides. In addition, during 2004, the Commission will be required to promulgate rules pursuant to the Fair and Accurate Credit Transactions Act of 2003, Pub. L. 108-159 (requiring at least 25 separate rules and 8 studies); the Fairness to Contact Lens Consumers Act of 2003, Pub. L. 108-164; and the Controlling the Assault of Non-Solicited Pornography and Marketing Act of 2003, Pub. L. 108-187. Accordingly, the Commission proposes a revised ten-year regulatory review schedule. A copy of this tentative schedule is appended. The Commission may, in its discretion, modify or reorder the schedule in the future to incorporate new legislative rules, or to respond to external factors (such as changes in the law) or other considerations.

Authority: 15 U.S.C. 41-58.

By direction of the Commission.
Donald S. Clark,
Secretary.

Appendix—Regulatory Review Modified Ten-Year Schedule
16 CFR part | Topic | Year to review
18 | Guides for the Nursery Industry | 2005
410 | TV Picture Tube Size Rule | 2005
424 | Retail Food Store Advertising and Marketing Practices Rule | 2005
14 | Administrative Interpretations, General Policy Statements, and Enforcement Policy Statements | 2006
311 | Recycled Oil Rule | 2006
312 | Children's Online Privacy Protection Rule | 2006
444 | Credit Practices Rule | 2006
455 | Used Car Rule | 2006
24 | Guides for Select Leather and Imitation Leather Products | 2007
435 | Mail or Telephone Order Merchandise Rule | 2007
500 | Regulations Under Section 4 of the Fair Packaging and Labeling Act (“FPLA”) | 2007
501 | Exemptions from Part 500 of the FPLA | 2007
502 | Regulations Under Section 5(C) of the FPLA | 2007
503 | Statements of General Policy or Interpretations Under the FPLA | 2007
305 | Appliance Labeling Rule | 2008
306 | Automotive Fuel Ratings, Certification and Posting Rule | 2008
429 | Cooling Off Rule | 2008
601 | Summary of Consumer Rights, Notice of User Responsibilities, and Notice of Furnisher Responsibilities under the Fair Credit Reporting Act | 2008
254 | Guides for Private Vocational and Distance Education Schools | 2009
260 | Guides for the use of Environmental Marketing Claims | 2009
300 | Rules and Regulations under the Wool Products Labeling Act | 2009
301 | Rules and Regulations under the Fur Products Labeling Act | 2009
303 | Rules and Regulations under the Textile Fiber Products Identification Act | 2009
425 | Rule Concerning the Use of Negative Option Plans | 2009
239 | Guides for the Advertising of Warranties and Guarantees | 2010
433 | Preservation of Consumers' Claims and Defenses Rule | 2010
700 | Interpretations of Magnuson-Moss Warranty Act | 2010
701 | Disclosure of Written Consumer Product Warranty Terms and Conditions | 2010
702 | Pre-sale Availability of Written Warranty Terms | 2010
703 | Informal Dispute Settlement Procedures | 2010
23 | Guides for the Jewelry, Precious Metals, and Pewter Industries | 2011
423 | Care Labeling Rule | 2011
20 | Guides for the Rebuilt, Reconditioned and Other Used Automobile Parts Industry | 2012
233 | Guides Against Deceptive Pricing | 2012
238 | Guides Against Bait Advertising | 2012
240 | Guides for Advertising Allowances and Other Merchandising Payments and Services | 2012
251 | Guide Concerning Use of the word “Free” and Similar Representations | 2012
259 | Guide Concerning Fuel Economy Advertising for New Automobiles | 2012
310 | Telemarketing Sales Rule | 2013
801 | Hart-Scott-Rodino Antitrust Improvements Act Coverage Rules | 2013
802 | Hart-Scott-Rodino Antitrust Improvements Act Exemption Rules | 2013
803 | Hart-Scott-Rodino Antitrust Improvements Act Transmittal Rules | 2013

[FR Doc. 04-1690 Filed 1-26-04; 8:45 am]

BILLING CODE 6750-01-M